DEPARTMENT OF LABOR

Employment and Training Administration

[TA-W-53,146]

Metalforming Technologies/Northern Tube, Pinconning, MI; Notice of Revised Determination on Reconsideration

By letter dated January 23, 2004, the International Union, United Automobile, Aerospace & Agricultural Implement Workers of America—UAW, requested administrative reconsideration regarding the Department's Negative Determination Regarding Eligibility to Apply for Worker Adjustment Assistance, applicable to the workers of the subject firm.

The initial investigation resulted in a negative determination issued on November 12, 2003. The Department initially denied TAA to workers of Metalforming Technologies/Northern Tube, Pinconning, Michigan producing fabricated metal tubing because the “contributed importantly” group eligibility requirement of Section 222 of the Trade Act of 1974, as amended, was not met. The notice was published in the Federal Register on December 29, 2003 (68 FR 74977).

In the request for reconsideration, the petitioner indicated that the subject firm should be considered on the basis of a secondary upstream supplier impact. Upon further review, it was revealed that the Department erred in its initial investigation, as secondary impact was indicated on the petition.

Having conducted an investigation of subject firm workers on the basis of secondary impact, it was revealed that Metalforming Technologies/Northern Tube, Pinconning, Michigan supplied component parts for class 8 trucks, and a loss of business with a manufacturer (whose workers were certified eligible to apply for adjustment assistance) contributed importantly to the workers separation or threat of separation.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that workers of Metalforming Technologies/Northern Tube, Pinconning, Michigan qualify as adversely affected secondary workers under Section 222 of the Trade Act of 1974, as amended. In accordance with the provisions of the Act, I make the following certification:

All workers of Metalforming Technologies/Northern Tube, Pinconning, Michigan who became totally or partially separated from employment on or after September 26, 2002 through two years from the date of certification are eligible to apply for adjustment assistance under Section 223 of the Trade Act of 1974, and are eligible to apply for alternative trade adjustment assistance under Section 246 of the Trade Act of 1974.

Signed at Washington, DC, this 2nd day of March 2004.
Elliott S. Kushner,
Certifying Officer, Division of Trade Adjustment Assistance.

[FR Doc. 04-5612 Filed 3-11-04; 8:45 am]

BILLING CODE 4510-30-P